DEPARTMENT OF THE INTERIOR

Bureau of Land Management

[LLIDT000000.L11200000.DD0000.241A.00]

Notice of Public Tour, Twin Falls District Resource Advisory Council Tour, Idaho

AGENCY: Bureau of Land Management, Interior.

ACTION: Notice of public meeting.

SUMMARY: In accordance with the Federal Land Policy and Management Act (FLPMA), the Federal Advisory Committee Act of 1972 (FACA), and the Federal Lands Recreation Enhancement Act of 2004 (FLREA), the U.S. Department of the Interior, Bureau of Land Management (BLM) Twin Falls District Resource Advisory Council (RAC) will attend a tour as indicated below.

DATES: On June 12, 2009, the Twin Falls District RAC members will tour a number of projects within the Burley Field Office of the BLM. RAC members will meet at the Burley Field Office (15 East 200 South, Burley, Idaho 83318) at 8:30 a.m. The tour should conclude by 5:30 p.m.

FOR FURTHER INFORMATION CONTACT: Heather Tiel-Nelson, Twin Falls District, Idaho, 2536 Kimberly Road, Twin Falls, Idaho 83301, (208) 736-2352.

SUPPLEMENTARY INFORMATION: The 15-member RAC advises the Secretary of the Interior, through the Bureau of Land Management, on a variety of planning and management issues associated with public land management in Idaho. During this tour, the Twin Falls District RAC members will learn about the Jim Sage chaining project on the Jim Sage Mountain near Almo, Idaho, the U.S. Geothermal Power Plant in the upper Raft River Valley and the BLM managed portion of the Castle Rocks Interagency Recreation Area. Additional topics may be added and will be included in local media announcements. More information is available at http://www.blm.gov/id/st/en/res/resource_advisory.3.html. RAC meetings and tours are open to the public. For further information about the tour, please contact Heather Tiel-Nelson, Public Affairs Specialist for the Twin Falls District, BLM at (208) 736-2352.

Dated: May 12, 2009.
Jenifer Arnold,
District Manager (Acting).

[FR Doc. E9-11519 Filed 5-15-09; 8:45 am]

BILLING CODE 4310-GG-P